DEPARTMENT OF COMMERCE

International Trade Administration

Extension of Time Limit for Preliminary Results of Full Five-Year Reviews

AGENCY: Import Administration, International Trade Administration, Department of Commerce.

ACTION: Notice of extension of time limit for preliminary results of full five-year (“sunset”) reviews.

SUMMARY: The Department of Commerce is extending the time limit for the preliminary results of two full sunset reviews initiated on December 1, 1999 (64 FR 67247), covering an antidumping and countervailing duty order. Based on adequate responses from domestic and respondent interested parties, the Department of Commerce is conducting full sunset reviews to determine whether revocation of the antidumping duty order on aramid fiber formed of poly para-phenylene terephthalamide from the Netherlands and the countervailing duty order on grain-oriented electrical steel from Italy would be likely to lead to continuation or recurrence of dumping and countervailable subsidy, respectively. As a result of these extensions, the Department of Commerce intends to issue its preliminary results not later than June 19, 2000.

EFFECTIVE DATE: March 27, 2000.

FOR FURTHER INFORMATION CONTACT: Martha V. Douthit or Melissa G. Skinner, Import Administration, International Trade Administration, U.S. Department of Commerce, 14th Street and Constitution Avenue, NW, Washington, DC 20230; telephone: (202) 482-5050, or (202) 482-1560, respectively.

Extension of Preliminary Results

In accordance with section 751(c)(5)(C)(v) of the Tariff Act of 1930, as amended (“the Act”), the Department of Commerce (“the Department”) may treat a sunset review as extraordinarily complicated if it is a review of a transition order (i.e., an order in effect on January 1, 1995). Because the sunset reviews at issue concern transition orders within the meaning of section 751(c)(6)(C)(i) and (ii) of the Act, the Department has determined that the sunset reviews of the following antidumping and countervailing duty orders are extraordinarily complicated:

A-421-805 Aramid Fiber Formed of Poly Para-Phenylene Terephthalamide from the Netherlands

C-475-812 Grain-Oriented Electrical Steel from Italy

Therefore, in accordance with section 751(c)(5)(B) of the Act, the Department is extending the time limit for completion of the preliminary results of these reviews until not later than June 19, 2000,

Dated: March 20, 2000.
Richard W. Moreland,
Acting Assistant Secretary for Import Administration.

[FR Doc. 00-7382 Filed 3-24-00; 8:45 am]

BILLING CODE 3510-DS-P